FEDERAL COMMUNICATIONS COMMISSION

[WC Docket No. 06-122; DA 13-2090]

Proposed Changes to FCC Form 499-A, FCC Form 499-Q, and Accompanying Instructions

AGENCY: Federal Communications Commission.

ACTION: Notice; solicitation of comments.

SUMMARY: In this document the Federal Communications Commission's Wireline Competition Bureau (Bureau) seeks comment on proposed revisions to the annual Telecommunications Reporting Worksheet, FCC Form 499-A (Form 499-A) and accompanying instructions (Form 499-A Instructions) to be used in 2014 to report 2013 revenues, and the quarterly Telecommunications Reporting Worksheet, FCC Form 499-Q (Form 499-Q) and accompanying instructions (Form 499-Q Instructions) to be used in 2014 to report projected collected revenues on a quarterly basis.

DATES: Comments are due on or before November 27, 2013.

ADDRESSES: Interested parties may file comments on or before November 27, 2013. All pleadings are to reference WC Docket No. 06-122. Comments may be filed using the Commission's Electronic Comment Filing System (ECFS) or by filing paper copies, by any of the following methods:

• Electronic Filers: Comments may be filed electronically using the Internet by accessing the ECFS: http://fjallfoss.fcc.gov/ecfs2/.

• Paper Filers: Parties who choose to file by paper must file an original and one copy of each filing.

• People with Disabilities: To request materials in accessible formats for people with disabilities (Braille, large print, electronic files, audio format), send an email to fcc504@fcc.gov or call the Consumer & Governmental Affairs Bureau at (202) 418-0530 (voice), (202) 418-0432 (tty).

FOR FURTHER INFORMATION CONTACT: Charles Eberle, Wireline Competition Bureau at (202) 418-7400 or TTY (202) 418-0484.

For detailed instructions for submitting comments and additional information on the rulemaking process, see the SUPPLEMENTARY INFORMATION section of this document.

SUPPLEMENTARY INFORMATION: This is a synopsis of the Wireline Competition Bureau's Public Notice in WC Docket No. 06-122; DA 13-2090, released October 29, 2013. The complete text of this document is available for inspection and copying during normal business hours in the FCC Reference Information Center, Portals II, 445 12th Street, SW., Room CY-A257, Washington, DC 20554. The document may also be purchased from the Commission's duplicating contractor, Best Copy and Printing, Inc., 445 12th Street SW., Room CY-B402, Washington, DC 20554, telephone (800) 378-3160 or (202) 863-2893, facsimile (202) 863-2898, or via the Internet at http://frwebgate.access.gpo.gov/cgi-bin/leaving.cgi?from=leavingFR.html&log=linklog&to=http://www.bcpiweb.comhttp://www.bcpiweb.com.

I. Synopsis

1. In order to promote clarity, transparency and predictability, the Wireline Competition Bureau (Bureau) seeks comment on proposed revisions to (1) the annual Telecommunications Reporting Worksheet, FCC Form 499-A (Form 499-A) and accompanying instructions (Form 499-A Instructions) to be used in 2014 to report 2013 revenues, and (2) the quarterly Telecommunications Reporting Worksheet, FCC Form 499-Q (Form 499-Q) and accompanying instructions (Form 499-Q Instructions) to be used in 2014 to report projected collected revenues on a quarterly basis. The revisions to the forms and instructions are attached to the Public Notice in redline format, showing proposed changes from the forms and instructions currently in effect. The redlines may be viewed on the Commission's Web site, as follows: Form 499-A, available at http://hraunfoss.fcc.gov/edocs_public/attachmatch/DA-13-2090A2.pdf; Form 499-A Instructions, available at http://hraunfoss.fcc.gov/edocs_public/attachmatch/DA-13-2090A3.pdf; Form 499-Q, available at http://hraunfoss.fcc.gov/edocs_public/attachmatch/DA-13-2090A4.pdf; and Form 499-Q Instructions available at http://hraunfoss.fcc.gov/edocs_public/attachmatch/DA-13-2090A5.pdf.

II. Discussion

THE PROPOSED REVISIONS INCLUDE THE FOLLOWING MODIFICATIONS:

2. Form 499-A Instructions

A. Page 6. Revised to direct filers to the USAC Web site for details regarding documentation that must be filed when a filer ceases providing telecommunications.

B. Page 10. Revised to instruct filers that lack Internal Revenue Service employer identification numbers to contact USAC for an alternative identification number.

C. Pages 10-11. Revised to emphasize that all “affiliated” filers, as that term is defined under 47 U.S.C. 153, should enter a common identifier (the “Affiliated Filers Name/Holding Company Name”). Typically this is the name of the filer's holding company, but in some instances, a group of affiliated filers may choose to designate an entity that is not the holding company of each affiliate. The term “holding company” is replaced by “Affiliate Filers Name/Holding Company Name” where appropriate throughout the Form 499-A Instructions.

D. Page 12. Contact information is added for filer inquiries regarding the instructions for Interstate Telecommunications Service Providers (ITSP) regulatory fee bills.

E. Page 12. Revised to clarify that only common carriers are required to designate an agent in the District of Columbia.

F. Page 15. A paragraph containing instructions on reporting of certain international revenues is moved from Page 20 to the “Note on International Services” on Page 14. This edit clarifies that the instruction applies to all international revenues.

G. Page 19. Consistent with the Lifeline Reform Order (FCC 12-134; rel February 6, 2012), the following sentence is deleted: “Line 308 should include as revenues Lifeline Assistance reimbursement for the waived portion of subscriber line or presubscribed interexchange carrier charges from the Low Income or High Cost universal service support mechanism.

H. Pages 23-27. Consistent with the 2012 Wholesaler-Reseller Clarification Order (FCC-134; rel November 5, 2012)), and consistent with a recent industry proposal to implement the order, revised to clarify the definition of reseller, provide sample reseller certification language, and clarify the safe harbor and reasonable expection standards for fillers that report revenues from reseller customers.

I. Page 28. Revised to clarify that total revenues reported in column (a) include intrastate revenues even though intrastate revenues are not reported separately on the Form 499-A.

J. Page 37. Revised to delete contact information for the Wireline Competition Bureau and Industry Analysis and Technology Division; filers should contact USAC with questions about the Forms 499.

K. Page 38. Consistent with the requirements of the Twenty-First Century Communications and Video Accessibility Act of 2010 and the 2011 TRS Contributions Order (FCC 11-150; rel October 7, 2011) implementing those requirements, citations to section 715 of the Act and 47 U.S.C. section 616 are added throughout, and page 38 is revised to clarify that providers of non-interconnected VoIP service are required to contribute to the interstate TRS support mechanism.

3. Form 499-Q Instructions.

A. Page 10. Revised to instruct filers that lack Internal Revenue Service employer identification numbers to contact USAC for an alternative identification number.

B. Page 10-11. Revised to emphasize that all “affiliated” filers, as that term is defined under 47 U.S.C. section 153, should enter a common identifier (the “Affiliated Filers Name”). Typically this is the name of the filer's holding company, but in some instances, a group of affiliated filers may choose to designate an entity that is not the holding company of each affiliate.

C. Page 11-13. Consistent with the 2012 Wholesaler-Reseller Clarification Order, revised to clarify the definition of “reseller,” provide sample reseller certification language, and clarify the safe harbor and “reasonable expectation” standards for filers that report revenues from reseller customers.

D. Page 15. Revised to clarify that total revenues reported in column (a) include intrastate revenues even though intrastate revenues are not reported separately on the Form 499-Q.

E. Page 21. Revised to delete contact information for the Wireline Competition Bureau and Industry Analysis and Technology Division; filers should contact USAC with questions about the Forms 499.

4. Stylistic Changes. In several instances, wording in the instructions is revised for clarification purposes, without changing the substance.

5. Date Changes. Dates are updated throughout. References to “2013” are changed to “2014,” and references to “2012” are changed to “2013”.

6. Paperwork Reduction Act of 1995. This document does not contain new or modified information collection(s) subject to the Paperwork Reduction Act of 1995 (PRA), Public Law 104-13. In addition, therefore, it does not contain any new or modified information burden for small business concerns with fewer than 25 employees, pursuant to the Small Paperwork Relief Act of 2002, Public Law 107-198, see 44 U.S.C. 3506(c)(4).

7. Pursuant to §§ 1.415 and 1.419 of the Commission's rules, 47 CFR 1.415, 1.419, interested parties may file comments on or before the dates indicated on the first page of this document. All pleadings are to reference WC Docket No. 06-122. Comments may be filed using: (1) The Commission's Electronic Comment Filing System (ECFS), or (2) by filing paper copies. All filings must be addressed to the Commission's Secretary, Office of the Secretary, Federal Communications Commission.

8. Electronic Filers: Comments may be filed electronically using the Internet by accessing the ECFS: http://apps.fcc.gov/ecfs/. Filers should follow the instructions provided on the Web site for submitting comments.

9. Paper Filers: Parties who choose to file by paper must file an original and one copy of each filing. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington DC 20554.

10. Additional copies. We request that parties send one copy of each filing to each of the following:

• The Commission's duplicating contractor, Best Copy and Printing, Inc., 445 12th Street SW., Room CY-B402, Washington, DC 20554, www.bcpiweb.com; phone: (202) 488-5300 fax: (202) 488-5563;

• Charles Eberle, Telecommunications Access Policy Division, Wireline Competition Bureau, 445 12th Street SW., Room 5-B530, Washington, DC 20554; email: Charles.Eberle@fcc.gov and

• Charles Tyler, Telecommunications Access Policy Division, Wireline Competition Bureau, 445 12th Street SW., Room 5-A452, Washington, DC 20554; email: Charles.Tyler@fcc.gov.

11. People with Disabilities: To request materials in accessible formats for people with disabilities (Braille, large print, electronic files, audio format), send an email to fcc504@fcc.gov or call the Consumer & Governmental Affairs Bureau at (202) 418-0530 (voice), (202) 418-0432

12. Filings and comments are also available for public inspection and copying during regular business hours at the FCC Reference Information Center, Portals II, 445 12th Street SW., Room CY-A257, Washington, DC 20554. They may also be purchased from the Commission's duplicating contractor, Best Copy and Printing, Inc., Portals II, 445 12th Street SW., Room CY-B402, Washington, DC 20554, telephone: (202) 488-5300, fax: (202) 488-5563, or via email www.bcpiweb.com.

13. The proceeding this Notice initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Kimberly Scardino,
Division Chief, Telecommunications Access Policy Division, Wireline Competition Bureau.

[FR Doc. 2013-26482 Filed 11-4-13; 8:45 am]

BILLING CODE 6712-01-P